ENVIRONMENTAL PROTECTION AGENCY

[EPA-HQ-OW-2005-0023; FRL 9905-74-OEI]

Information Collection Request Submitted to OMB for Review and Approval; Comment Request; Clean Water Act Section 404 State-Assumed Programs (Renewal)

AGENCY: Environmental Protection Agency (EPA).

ACTION: Notice.

SUMMARY: The Environmental Protection Agency has submitted an information collection request (ICR), “Clean Water Act Section 404 State-Assumed Programs (Renewal)” to the Office of Management and Budget (OMB) for review and approval in accordance with the Paperwork Reduction Act (44 U.S.C. 3501 et seq.). This is a proposed extension of the ICR, which is currently approved through January 31, 2014. Public comments on the ICR renewal were requested via the Federal Register (78 FR 62629) published on October 22, 2013, during a 60-day comment period. This notice allows for an additional 30 days for public comments. A fuller description of the ICR is given below, including its estimated burden and cost to the public. An Agency may not conduct or sponsor and a person is not required to respond to a collection of information unless it displays a currently valid OMB control number.

DATES: Additional comments may be submitted on or before February 28, 2014.

ADDRESSES: Submit your comments, referencing Docket ID Number EPA-HQ-OW-2005-0023, to (1) EPA online using www.regulations.gov (our preferred method), by email ow-docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Kathy Hurld, Office of Wetlands, Oceans, and Watersheds, Wetlands Division (4502T), Environmental Protection Agency, 1200 Pennsylvania Ave. NW., Washington, DC 20460; telephone number: 202-566-1348; fax number: 202-566-1349; email address: hurld.kathy@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

EPA ICR Number: 0220.12.

OMB Control Number: 2040-0168.

Abstract: Section 404(g) of the Clean Water Act (CWA) authorizes States [and Tribes] to assume the section 404 permit program for discharges of dredged or fill material into certain Waters of the U.S. This ICR covers the collection of information EPA needs to perform its program approval and oversight responsibilities and the State/Tribe needs to establish and implement its program.

Form Numbers: None.

Respondents/affected entities: Entities potentially affected by this action are those States/Tribes requesting assumption of the CWA section 404 permit program; States/Tribes with approved assumed programs; and permit applicants in States/Tribes with assumed programs.

Respondent's obligation to respond: Required to obtain or retain a benefit (40 CFR 233).

Estimated number of respondents: EPA anticipates 2 States/Tribes will request program assumption; there will be approximately 14,000 permit applications (3,500 applications per state); and 4 States/Tribes which have assumed the program (the two current programs and potentially two who may be approved under this ICR) which will submit an annual report.

Frequency of response: States/Tribes will respond one time to request assumption and once the program is approved they will respond annually for the annual permit and annual report; permit applicants will respond one time when requesting a permit.

Total estimated burden: The public reporting and recordkeeping burden for this collection of information is estimated to be 90,960 hours (per year). Burden is defined at 5 CFR 1320.03(b).

Total estimated cost: Costs to states for assumed Section 404 permit programs will vary widely by state and permit, however there are $0 capital or operation & maintenance costs.

Changes in the Estimates: There is a decrease of 10,400 hours in the total estimated respondent burden compared with the ICR currently approved by OMB. This decrease is because the estimated number of permits reviewed by a state per year decreased. This decrease is based on the experience of the state of New Jersey, due in part to a change in the economy and to a recalculation in the number of permits estimated. There was an increase in the number of hours spent reviewing each permit, due to an increase in the number of times applicants requested a review of mitigation options. The estimate used here is a weighted average of Michigan's and New Jersey's estimates.

John Moses,
Director, Collection Strategies Division.

[FR Doc. 2014-01666 Filed 1-28-14; 8:45 am]

BILLING CODE 6560-50-P